DEPARTMENT OF AGRICULTURE

National Institute of Food and Agriculture

[Docket No. NIFA-2018-002]

Notice of Intent To Revise a Currently Approved Information Collection

AGENCY: National Institute of Food and Agriculture, USDA.

ACTION: Notice and request for comments.

SUMMARY: In accordance with the Paperwork Reduction Act of 1995 and Office of Management and Budget (OMB) regulations, this notice announces the National Institute of Food and Agriculture's (NIFA's) intention to request approval for an extension of the currently approved information collection for the NIFA proposal review process.

DATES: Written comments on this notice must be received by July 2, 2018 to be assured of consideration. Comments received after that date will be considered to the extent practicable.

ADDRESSES: Written comments concerning this notice and requests for copies of the information collection may be submitted by any of the following methods: Email: rmartin.usda.gov; Fax: 202-720-0857; Mail: Office of Information Technology (OIT), NIFA, USDA, STOP 2216, 1400 Independence Avenue SW, Washington, DC 20250-2216.

FOR FURTHER INFORMATION CONTACT: Robert Martin, eGovernment Program Leader; Email: rmartin@nifa.usda.gov.

SUPPLEMENTARY INFORMATION:

Title of Collection: NIFA Proposal Review Process.

OMB Control Number: 0524-0041.

Expiration Date of Current Approval: November 30, 2018.

Type of Request: Revision of a currently approved information collection for three years.

Abstract: The National Institute of Food and Agriculture (NIFA) is responsible for performing a review of proposals submitted to NIFA competitive award programs in accordance with section 103(a) of the Agricultural Research, Extension, and Education Reform Act of 1998, 7 U.S.C. 7613(a). Reviews are undertaken to ensure that projects supported by NIFA are of high quality, and are consistent with the goals and requirements of the funding program. Proposals submitted to NIFA undergo a programmatic evaluation to determine worthiness of Federal support. The evaluations consist of a peer panel review and may also entail an assessment by Federal employees and electronically submitted (ad-hoc) reviews in the Peer Review System.

Need and Use of the Information: As part of our panel process NIFA is required to “maintain a balanced composition of reviewers with regard to minority and female representation and an equitable age distribution”, 7 CFR 3430.33. In addition, the information collected from the form is necessary to show compliance with nondiscrimination laws such as 7 CFR 15. Currently, we do not have a vehicle to collect this information for panelists, as the approved Research & Related Personal Data form, OMB number 4040-0001, is specific to applicants. Thus, we are seeking a revision of the currently approved Research & Related Personal Data form, OMB Number 4040-0001, tailoring it for panelists.

Once collected, the information would be stored in a secure data base and referenced when recruiting panelists to ensure panels meet diversity requirements as stated in 7 CFR 3430.33. The information would also be aggregated for use in an annual report on the demographics of NIFA's applicants and panelists to ensure compliance and referenced as needed in cases of a discrimination complaint. The data would remain strictly confidential and would only be available to NIFA staff.

Estimate of Burden: NIFA estimates that between one minute to ten minutes may be required to fill out the form. It is estimated that approximately five minutes are required to fill out the form on average. NIFA estimates it has 2,000 panelists each year. The total annual burden on panelists is 167 hours.

Comments are invited on: (a) Whether the proposed collection of information is necessary for the proper performance of the functions of the Agency, including whether the information will have practical utility; (b) the accuracy of the Agency's estimate of the burden of the proposed collection of information; (c) ways to enhance the quality, utility and clarity of the information to be collected; and (d) ways to minimize the burden of the collection of information on those who are to respond, including through the use of appropriate automated, electronic, mechanical, or other technological collection techniques or other forms of information technology.

All responses to this notice will be summarized and included in the request to OMB for approval. All comments will become a matter of public record.

Done at Washington, DC, this 25th day of April, 2018.
Sonny Ramaswamy,
Director, National Institute of Food and Agriculture.

[FR Doc. 2018-09296 Filed 5-1-18; 8:45 am]

BILLING CODE 3410-22-P